DEPARTMENT OF COMMERCE

International Trade Administration

Request for Comments on World Health Organization Pandemic Influenza Preparedness Framework

AGENCY: International Trade Administration, Department of Commerce.

ACTION: Notice and request for comments.

SUMMARY: The International Trade Administration invites submission of comments from the public and relevant industries on influenza surveillance and response, including implementation of the World Health Organization Pandemic Influenza Preparedness Framework (http://apps.who.int/gb/ebwha/pdf_files/WHA64/A64_8-en.pdf) and additional planning for future possible pandemic influenza.

DATES: Written comments must be submitted on or before October 21, 2011. Comments should be no more than 15 pages. Business-confidential information should be clearly identified as such.

ADDRESSES: You may submit comments by any of the following methods:

E-mail: Vaccines@trade.gov.

Fax: (202) 482-0975 (Attn.: Jane Earley).

Mail or Hand Delivery/Courier: Jane Earley, U.S. Department of Commerce, Office of Health and Consumer Goods, Room 1015, 1401 Constitution Avenue, NW., Washington, DC 20230.

FOR FURTHER INFORMATION CONTACT: For questions on the submission of comments, please contact Jane Earley by phone at (202) 482-6241 or Andrea Cornwell at (202) 482-0998.

SUPPLEMENTARY INFORMATION: Written comments are sought in light of the approval of the World Health Organization (WHO) Pandemic Influenza Preparedness Framework by WHO Member States at the World Health Assembly and the need for the U.S. Government to participate in discussions and activities to plan for future pandemics. The facts and information obtained from written submissions will be used to inform the participation of the United States Department of Commerce in the interagency process to prepare for United States participation in international pandemic preparedness discussions and activities, following the May 2011 approval of the WHO Pandemic Influenza Preparedness Framework. The written submissions will be shared with other interested U.S. Government agencies, as needed, during the interagency process.

This agency previously requested comments on international pandemic influenza preparedness via the Federal Register on September 14, 2010; 75 FR 55776-55777.

The Department of Commerce invites comments from civil society organizations as well as pharmaceutical and medical technology industries and other interested members of the public on a number of issues regarding pandemic influenza preparedness and response.

The Department of Commerce invites written submissions on the following topics:

1. Implementation of the WHO Pandemic Influenza Preparedness Framework.

2. Operations of the Global Influenza Surveillance and Response System.

3. Other matters related to prevention, planning and response whose resolution will be integral for the effective operation of a global influenza pandemic response.

4. Other matters that are related to the substance contained in 1-3, above.

Upon receipt of the written submission, representatives from the Department of Commerce will consider them and share them, as needed, with other interested U.S. Government agencies and departments. Entities making submissions may be contacted for further information or explanation and, in some cases, meetings with individual submitters may be requested.

Dated: September 15, 2011.
James Rice,
Acting Director, Office of Health and Consumer Goods, International Trade Administration.

[FR Doc. 2011-24205 Filed 9-20-11; 8:45 am]

BILLING CODE 3510-DR-P